EQUAL EMPLOYMENT OPPORTUNITY COMMISSION

Agency Information Collection Activities: Existing Collection

AGENCY: Equal Employment Opportunity Commission.

ACTION: Notice of information collection—proposed revision of the Employer Information Report (EEO-1) Component 1.

SUMMARY: In accordance with the Paperwork Reduction Act (PRA), the Equal Employment Opportunity Commission (EEOC or Commission) announces that it has submitted to the Office of Management and Budget (OMB) a request for a three-year PRA approval of revisions to Component 1 of the Employer Information Report (EEO-1). This PRA submission for the EEO-1 Component 1 does not change the types of demographic workforce data historically collected by the EEO-1 (i.e., employee data by job category and sex and race or ethnicity). Rather, as part of this routine three-year clearance for Component 1 under the PRA, the EEOC seeks OMB approval of measures that streamline and modernize how the current EEO-1 Component 1 workforce demographic data are collected from employers.

DATES: Written comments on this notice must be submitted on or before June 1, 2023.

ADDRESSES: Written comments should be sent within 30 days of publication of this final notice to www.reginfo.gov/public/do/PRAMain. Find this particular information collection by selecting “Currently under Review—Open for Public Comments” or by using the search function.

FOR FURTHER INFORMATION CONTACT: Paul Guerino, Director, Data Development and Information Products Division, Office of Enterprise Data and Analytics (OEDA), Equal Employment Opportunity Commission, 131 M Street NE, Washington, DC 20507; (202) 921-2928 (voice), (800) 669-6820 (TTY) or email at OEDA@eeoc.gov. Requests for this notice in an alternative format should be made to the EEOC's Office of Communications and Legislative Affairs (OCLA) at (202) 921-3191 (voice), (800) 669-6820 (TTY), or (844) 234-5122 (ASL Video Phone).

SUPPLEMENTARY INFORMATION: A notice that the EEOC would be submitting this request was published in the Federal Register on November 10, 2022, allowing for a 60-day public comment period which ended on January 9, 2023.¹ Two comments were received from the public.

¹ See Notice of Information Collection 87 FR 67907 (Nov. 10, 2022) at https://www.federalregister.gov/documents/2022/11/10/2022-24518/agency-information-collection-activities-existing-collection.

I. Background

A. The EEO-1 Component 1 Report ²

² Component 1 of the EEO-1 refers to the demographic data the EEOC has collected since 1966. The EEOC called its historic, first-time collection of pay data from certain private employers and federal contractors Component 2 of the EEO-1. The Component 2 collection was completed in February 2020. On July 28, 2022, the National Academies of Sciences, Engineering, and Medicine (NASEM) issued a Consensus Study Report evaluating the Component 2 pay data collection and providing recommendations for future data collections. The EEOC is carefully evaluating NASEM's recommendations as they relate to the EEO-1 Component 1 data collection and may request modification of the EEO-1 Component 1 collection in the future. The Consensus Report is available at https://nap.nationalacademies.org/catalog/26581/evaluation-of-compensation-data-collected-through-the-eeo-1-form.

Since 1966, the EEOC has required eligible employers to submit workforce demographic data (EEO-1 Component 1) on an annual basis. All private employers that are covered by Title VII of the Civil Rights Act of 1964, as amended (Title VII),³ and that have 100 or more employees are required to file the workforce demographic data. In addition, Office of Federal Contract Compliance Programs (OFCCP) regulations require certain federal contractors to file the EEO-1 Component 1 if they have 50 or more employees and are not exempt as provided for by 41 CFR 60-1.5.

³ 42 U.S.C. 2000e, et seq.

B. The 60-Day Notice: Request for Three-Year PRA Approval of Revisions to the EEO-1 Component 1

Pursuant to the PRA and OMB regulations found at 5 CFR 1320.8(d)(1), the Commission published a Notice in the Federal Register on November 10, 2022 soliciting public comments during a 60-day period (“60-day Notice”) on its intention to seek three-year OMB approval of revisions to the currently approved EEO-1 Component 1. In its 60-day Notice, the EEOC sought to: (1) Evaluate whether the proposed collection of information is necessary for the proper performance of the Commission's functions, including whether the information will have practical utility; (2) Evaluate the accuracy of the Commission's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology (e.g., permitting electronic submission of responses). The 60-day Notice comment period ended on January 9, 2023.

As discussed in the 2019 and 2020 Federal Register Notices associated with the agency's previous request for clearance of Component 1,⁴ the EEOC created the Office of Enterprise Data and Analytics (OEDA) in May 2018 with the goal of creating a 21st century data and analytics organization at the agency. Since its creation, OEDA, which administers the agency's EEO data collections, including the EEO-1 Component 1, has undertaken several efforts to modernize the collections and improve the quality of data collected. OEDA has also streamlined functions, such as providing additional self-service options, resource materials, and an online support message center. As part of these ongoing modernization efforts, OEDA identified additional burden-reducing measures to streamline how the current EEO-1 Component 1 workforce demographic data are collected from employers. This request for clearance under the PRA includes changes that make the EEO-1 Component 1 filing process more user-friendly and less burdensome.

⁴ See Notice of Information Collection 84 FR 48138, 48139 (Sept. 12, 2019) at https://www.govinfo.gov/content/pkg/FR-2019-09-12/pdf/2019-19767.pdf and Notice of Information Collection 85 FR 16348, 16341 (Mar. 23, 2020) at https://www.govinfo.gov/content/pkg/FR-2020-03-23/pdf/2020-06008.pdf.

Beginning with the 2022 EEO-1 Component 1 data collection, multi-establishment employers will no longer be required to file a separate “type” of establishment report based on the size of an individual non-headquarters establishment (i.e., establishments with 50 or more employees or establishments with fewer than 50 employees). Rather, in place of the former “Type 4” and “Type 8” establishment reports and the former “Type 6” establishment list report, there will be a newly named “Establishment-Level Report.” ⁵ All multi-establishment employers will use the “Establishment-Level Report” to submit establishment-level employee demographic data for each of their non-headquarters establishment(s) regardless of size. With this change, a multi-establishment employer will no longer have to take the additional step of counting employees in each establishment to determine whether to file a “Type 4” or “Type 8” establishment report. Multi-establishment employers will still be required to submit a “Headquarters Report” (formerly referred to as a “Type 3” report) and a “Consolidated Report” (formerly referred to as a “Type 2” report). However, each “Consolidated Report” for every multi-establishment employer will be auto-populated and auto-generated with data from their “Headquarters Report” and “Establishment-Level Report(s)” within the EEOC's electronic, web-based EEO-1 Component 1 Online Filing System (OFS).⁶ A single-establishment employer is still required to submit only one report, a “Single-Establishment Employer Report” ⁷ (formerly referred to as a “Type 1” single establishment report).

⁵ The “Type 4” report contained establishment-level employee demographic data at a non-headquarters establishment with 50 or more employees. The “Type 8” report contained establishment-level employee demographic data at a non-headquarters establishment with fewer than 50 employees. The “Type 6” establishment list report contained the name and address of each non-headquarters establishment with fewer than 50 employees, as well as the total number of employees at each such establishment. A multi-establishment employer choosing the option to submit a “Type 6” establishment list report, instead of a “Type 8” report, was required to manually enter employee demographic data by job category and sex and race or ethnicity into the accompanying “Type 2” consolidated report for every employee of every establishment included on the “Type 6” establishment list report.

⁶ With the discontinuation of the option to use a “Type 6” establishment list report, a “Consolidated Report” can be auto-populated and auto-generated with data from a multi-establishment employer's “Headquarters Report” and “Establishment-Level Report(s)” within the EEOC's electronic, web-based EEO-1 Component 1 Online Filing System (OFS).

⁷ This was referred to as a “Single-Establishment Filer Report” in the 60-day Notice published on November 10, 2022 in the Federal Register.

II. The Public Comments on the 60-day Notice

The 60-day Notice was published in the Federal Register on November 10, 2022.⁸ The EEOC received two comments during the public comment period, both of which were published on the www.regulations.gov website.⁹ The first comment consisted of a brief statement of support for the EEOC's proposal to create a single type of establishment-level report.¹⁰ The second comment was a letter submitted by a non-profit association of employers hereinafter referred to as “the employer association.” ¹¹

⁸ Available at https://www.federalregister.gov/documents/2022/11/10/2022-24518/agency-information-collection-activities-existing-collection.

⁹ Available at https://www.regulations.gov/docket/EEOC-2022-0005.

¹⁰ Available at https://www.regulations.gov/comment/EEOC-2022-0005-0002.

¹¹ Available at https://www.regulations.gov/comment/EEOC-2022-0005-0003.

The employer association stated at the outset that the EEO-1 Component 1's “structure, content, and filing options have worked well over the years and, as a general matter, [the employer association] supports the continuation of the current structure.” Although the employer association stated that it “supports renewal of Component 1 and the revisions proposed by the EEOC” and “believes that the burdens imposed by the data collection requirement are justified,” it stated that the EEOC's burden estimate is “too low.” Additionally, the employer association supported the consolidation of the “Type 4” and “Type 8” establishment reports into a single establishment-level report as well as the proposed changes to the names of the EEO-1 Component 1 report types.¹² However, the employer association believes the EEOC should have sought stakeholder input and approval before discontinuing the option to use a “Type 6” establishment list report for establishments with fewer than 50 employees and recommends that “the EEOC incorporate into its burden estimates the number of locations covered by Type 6 Establishment Lists.”

¹² Beginning with the 2022 EEO-1 Component 1 data collection, the EEOC is renaming the reports submitted by filers. The naming convention for EEO-1 Component 1 reports will no longer include the word “Type” or a specific number corresponding to “Type.”

III. Commission Decisions and Final EEOC Proposals to OMB

The EEOC Will Seek Three-Year Approval of Revisions to the Currently Approved Component 1 of the EEO-1 Employer Information Report

After evaluating the two comments received from the public during the 60-day Notice, the Commission has decided it will seek a three-year approval by OMB of revisions to EEO-1 Component 1 for reporting years 2022, 2023, and 2024, as described in this Notice. Based on data trends over the last three EEO-1 Component 1 data collection reporting years (i.e., 2019, 2020, and 2021), as well as the EEOC's ongoing updates to the EEO-1 Component 1 frame (i.e., filer roster/list or employer roster/list), the EEOC believes the total number of filers submitting at least one report type may increase to 110,000 for reporting years 2022 through 2024. Table 1 below in the Formal Paperwork Reduction Act Statement section provides a breakdown of the estimated number of reports by report type that will be submitted by the estimated 110,000 filers. Accordingly, the EEOC is calculating the burden estimates in this Notice based on the revised estimate of the number of filers set forth below in Table 1.

After reviewing the comment submitted by the employer association referenced above, the EEOC believes the commenter has misinterpreted the burden estimates provided in the 60-day Notice. The employer association objects to what it characterizes as the EEOC's estimate that “completing all Establishment-Level Reports will take an average of 2.5 hours.” (Emphasis added.) As Table 1 below shows, the EEOC instead estimates that each “Establishment-Level Report” will take on average 150 minutes (2.5 hours) to complete. Thus, the employer association correctly notes that some employers may spend “dozens of hours or more on Component 1 compliance” depending on the number of “Establishment-Level Report(s)” filed by a particular employer. Even with this, the Commission believes that the burden estimates provided in the 60-day Notice generally overestimate the burden on employers with the largest numbers of establishments. This is because such employers are much more likely to be using a Human Resource Information System (HRIS) ¹³ which can automatically generate their headquarters reports and establishment reports into a single data file upload. While large multi-establishment employers tend to utilize the data file upload feature, which is much more efficient, the EEOC did not assume this in its burden calculations.

¹³ For example, during the 2021 EEO-1 Component 1 reporting cycle, 78% of filers with 100 or more establishments submitted their demographic workforce data via the EEOC's data file upload function as opposed to manually entering their data by establishment into the EEO-1 Component 1 Online Filing System (OFS).

Although the EEOC is not changing the “average reporting time” or “aggregate reporting time” associated with each report, the agency has clarified the discussion of the reporting times below in the Formal Paperwork Reduction Act Statement section. In the 60-day Notice, the EEOC stated an “aggregate reporting time” of 5,150,488 hours for multi-establishment employers submitting “Establishment-Level Reports.” Upon further review, this figure could be confusing to members of the public given that multi-establishment employers must also submit “Consolidated Reports” and “Headquarters Reports.” As originally written, the 5,150,488 figure referred to the estimated number of hours associated with “Establishment-Level Reports” only. However, given the reference to “aggregate reporting time,” the EEOC has clarified that when accounting for the “aggregate reporting time” for EEO-1 Component 1 multi-establishment employers to complete a “Consolidated Report” (0 hours) and a “Headquarters Report” (54,786 hours), the total aggregate reporting time for such filers is 5,205,274 hours.

With respect to the employer association's comment regarding the “Type 6” establishment list report, the EEOC maintains that the burden estimates already account for the discontinuation of the “Type 6” option. The 2,060,195 “Establishment-Level Reports” that the Commission expects to receive is extrapolated from the total of previous years' “Type 4” and “Type 8” establishment reports, combined with the number of locations previously included on “Type 6” reports (which the commenter correctly notes will now each require an “Establishment-Level Report”). The burden estimates are further expanded to account for the anticipated increase in the number of filers.

Furthermore, the Commission does not agree with the commenter's assertion that replacing the “Type 6” establishment list report with an “Establishment-Level Report” is “by definition more burdensome and costly.” In the past, a multi-establishment employer that chose to submit a “Type 6” report (instead of a “Type 8” report for each non-headquarters establishment with fewer than 50 employees) was required to provide the name and address of each such establishment, as well as the total number of employees at each establishment as part of this report. A multi-establishment employer choosing this option would then be required to manually enter employee demographic data by job category and sex and race or ethnicity into the accompanying “Type 2” consolidated report for every employee of every establishment included on the “Type 6” establishment list report. As detailed in the EEOC's Information Collection Review (ICR) package for reporting years 2019, 2020, and 2021, there was a higher burden associated with the “Type 6” report compared to the “Type 8” report for this reason. For the “Type 6” report, the average estimated reporting time was 480 minutes versus 180 minutes for the “Type 8” report.

With the discontinuation of the option to use a “Type 6” establishment list report instead of a “Type 8” report for non-headquarters establishments with fewer than 50 employees, a “Consolidated Report” can be auto-populated and auto-generated with data from a multi-establishment employer's “Headquarters Report” and “Establishment-Level Report(s)” within the EEOC's electronic, web-based EEO-1 Component 1 Online Filing System (OFS). Further, as previously noted, employers with multiple establishments are likely already using HRIS software to generate their reports, in which case providing demographics at the establishment level for each location can be performed in an automated fashion.

IV. Formal Paperwork Reduction Act Statement

A. Overview of Information Collection

Collection Title: Employer Information Report (EEO-1) Component 1.

OMB Number: 3046-0049.

Frequency of Report: Annual.

Type of Respondent: Private employers with 100 or more employees and federal contractors that have 50 or more employees and meet certain criteria.

Description of Affected Public: Private employers with 100 or more employees and federal contractors that have 50 or more employees and meet certain criteria.

Reporting Hours: 5,238,467 hours per annual collection.

Respondent Burden Hour Cost: $273,137,678.30 per annual collection.¹⁴

¹⁴ This estimate is based on the most recent median pay data from the U.S. Bureau of Labor Statistics (BLS). The EEOC estimated that a computer network specialist would account for 60% of the estimated hourly wage; a database administrator and architect would account for 20%; an HR specialist would account for 10%; legal counsel would account for 5%; and a CEO would account for 5%, yielding a total estimated hourly wage of $34.87. See U.S. Dept. of Labor, Bureau of Labor Statistics, Occupational Outlook Handbook, https://www.bls.gov/ooh/. Wages cited are median hourly wages. The “respondent burden hour cost” has increased slightly from the 60-day Notice because one of the input wages listed above (i.e., database administrator and architect) was updated by BLS after the 60-day Notice was published.

Federal Cost: $3,892,230.00 per annual collection.¹⁵

¹⁵ The “federal cost” has decreased slightly (i.e., by $221,158.50) from the 60-day Notice because of the input of lower federal staffing costs for the EEOC's Office of Enterprise Data and Analytics (OEDA), which administers the EEO-1 Component 1 data collection.

Number of Filers: 110,000 per annual collection.¹⁶

¹⁶ This estimate is based on the number of filers who were identified as being potentially eligible at the end of the 2019 and 2020 EEO-1 Component 1 data collections (approximately 90,000 filers) and at the end of the 2021 EEO-1 Component 1 data collection (approximately 98,000 filers). Based on the increases over the last three EEO-1 Component 1 data collection cycles, as well as the EEOC's ongoing updates to the frame (i.e., filer roster/list or employer roster/list), the EEOC estimates an increase of 12,000 potentially eligible filers compared to the number of filers during the 2021 EEO-1 Component 1 data collection.

Number of Responses: 2,235,938 reports per annual collection.¹⁷

¹⁷ In the EEO-1 Component 1 Information Collection Review (ICR) for reporting years 2019, 2020, and 2021, the term “records” was used interchangeably with the term “reports” to refer to the “reports” submitted by filers. Beginning with the ICR for reporting years 2022, 2023, and 2024, the EEOC will no longer use the term “records” to refer to “reports” submitted by filers. For the proposed EEO-1 Component 1 data collections for reporting years 2022, 2023, and 2024, “reports” refers to the following types of reports: a “Single-Establishment Employer Report,” a “Consolidated Report,” a “Headquarters Report,” and an “Establishment-Level Report.”

Number of Forms: 1.

Form Number: EEOC Standard Form 100 (SF 100).

Abstract: Section 709(c) of Title VII of the Civil Rights Act of 1964 (Title VII) requires employers to make and keep records relevant to the determination of whether unlawful employment practices have been or are being committed, to preserve such records, and to produce reports as the Commission prescribes by regulation or order.¹⁸ Pursuant to this statutory authority, the EEOC in 1966 issued a regulation requiring certain employers to file executed copies of the Employer Information Report (EEO-1) and instructed employers to report employee data by job category and by sex and race or ethnicity.¹⁹ Pursuant to Executive Order 11246,²⁰ the Office of Federal Contract Compliance Programs (OFCCP), U.S. Department of Labor, in 1978 issued its regulation describing the EEO-1 as a report “promulgated jointly with the Equal Employment Opportunity Commission” and requiring certain contractors to submit “complete and accurate reports” annually.²¹ Under these authorities, private employers with 100 or more employees and federal contractors that have 50 or more employees and meet certain criteria are required to report annually the number of individuals they employ by job category ²² and by sex and race or ethnicity.²³ These data are currently collected electronically by the EEOC through a web-based data collection application (i.e., portal) referred to as the EEO-1 Component 1 Online Filing System (OFS).²⁴ Employers must submit their data electronically to the web-based portal through either manual entry or the upload of a data file. The individual EEO-1 reports are confidential.²⁵ EEO-1 data are used by the EEOC to investigate charges of employment discrimination against employers in private industry and to publish periodic reports on workforce demographics.²⁶

¹⁸ 42 U.S.C. 2000e-8(c).

¹⁹ The EEOC's EEO-1 regulation is at 29 CFR part 1602 subpart B. § 1602.7 requires eligible employers to file “. . . in conformity with the directions set forth in the form and accompanying instructions.” The EEOC is responsible for obtaining OMB's PRA approval for the EEO-1 report.

²⁰ Exec. Order No. 11246, 30 FR 12319 (Sept. 24, 1965).

²¹ 41 CFR 60-1.7(a). OFCCP obtains EEO-1 Component 1 reports for federal contractors and subcontractors (contractors) pursuant to its own legal authority under E.O. 11246 and its implementing regulations. See id at 60-1.7(a)(1). Because OFCCP obtains EEO-1 data for contractors under its own E.O. 11246 authority, some courts have ruled that the Title VII prohibition against disclosure does not apply to OFCCP's collection of EEO-1 data. See, e.g., United Techs. Corp. v. Marshall, 464 F. Supp. 845, 851-52 (D. Conn. 1979); Sears Roebuck & Co. v. Gen. Servs. Admin., 509 F.2d 527, 529 (D.C. Cir. 1974). Accordingly, the EEO-1 Component 1 data of federal contractors received by OFCCP may be subject to potential disclosure by OFCCP under the Freedom of Information Act (FOIA), although FOIA exemptions may prevent disclosure. For more information, see the Department of Labor's FOIA regulations at 41 CFR part 70 and frequently asked questions (Freedom of Information Act (FOIA) Frequently Asked Questions | U.S. Department of Labor (dol.gov)).

²² The 10 job categories are: Executive/Senior Level Officials and Managers; First/Mid-Level Officials and Managers; Professionals; Technicians; Sales Workers; Administrative Support Workers; Craft Workers; Operatives; Laborers and Helpers; and Service Workers.

²³ The EEO-1 uses federal race and ethnicity categories, which were adopted by the Commission in 2005 and implemented in 2007. The seven race/ethnicity categories are: Hispanic or Latino—A person of Cuban, Mexican, Puerto Rican, South or Central American, or other Spanish culture or origin regardless of race. White (Not Hispanic or Latino)—A person having origins in any of the original peoples of Europe, the Middle East, or North Africa. Black or African American (Not Hispanic or Latino)—A person having origins in any of the black racial groups of Africa. Native Hawaiian or Other Pacific Islander (Not Hispanic or Latino)—A person having origins in any of the peoples of Hawaii, Guam, Samoa, or other Pacific Islands. Asian (Not Hispanic or Latino)—A person having origins in any of the original peoples of the Far East, Southeast Asia, or the Indian Subcontinent, including, for example, Cambodia, China, India, Japan, Korea, Malaysia, Pakistan, the Philippine Islands, Thailand, and Vietnam. American Indian or Alaska Native (Not Hispanic or Latino)—A person having origins in any of the original peoples of North and South America (including Central America), and who maintain tribal affiliation or community attachment. Two or More Races (Not Hispanic or Latino)—All persons who identify with more than one of the above five races. OMB is in the process of reviewing and revising its standards for maintaining, collecting, and presenting federal data on race and ethnicity. See https://www.whitehouse.gov/omb/briefing-room/2022/06/15/reviewing-and-revising-standards-for-maintaining-collecting-and-presenting-federal-data-on-race-and-ethnicity/. The EEOC will carefully consider the revision to the federal standards for collecting race and ethnicity data, which are expected by summer 2024, for use in future data collections.

²⁴ EEO-1 Component 1 filers may access the EEO-1 Component 1 Online Filing System (OFS) through the EEOC's dedicated EEO-1 Component 1 website at www.eeocdata.org/eeo1.

²⁵ All reports and any information from individual reports are subject to the confidentiality provisions of Section 709(e) of Title VII of the Civil Rights Act of 1964, 42 U.S.C. 2000e-8(e), as amended (Title VII) and may not be made public by the EEOC prior to the institution of any proceeding under Title VII involving the EEO-1 Component 1 data. Any EEOC employee who violates this prohibition may be found guilty of a criminal misdemeanor and could be fined or imprisoned. The confidentiality requirements allow the EEOC to publish only aggregated data, and only in a manner that does not identify any particular filer or reveal any individual employee's personal information. With respect to other federal agencies with a legitimate law enforcement purpose but without OFCCP's independent authority to collect EEO-1 data, the EEOC gives access to information collected under Title VII only if the agencies agree, by letter or memorandum of understanding, to comply with the confidentiality provisions of Title VII. In addition, section 709(d) (42 U.S.C. 2000e-8(d)) provides that the EEOC shall furnish upon request and without cost to state or local civil rights agencies information about employers in their jurisdiction on the condition that they not make it public prior to starting a proceeding under state or local law involving such information. The EEOC shares EEO-1 data with state and local Fair Employment Practices Agencies (FEPAs) pursuant to Worksharing Agreements that impose obligations on the contracted FEPA with respect to confidentiality, privacy, and data security. On a case-by-case basis, the EEOC may share EEO-1 data with a FEPA that does not have a Worksharing Agreement, but only if that FEPA agrees to comply with confidentiality, privacy, and data security obligations similar to those imposed on FEPAs with Worksharing Agreements.

²⁶ Any reports the EEOC publishes based on EEO-1 Component 1 data include only aggregated EEO-1 Component 1 data that protect the confidentiality of each employer's information, as well as the privacy of each employee's personal information.

B. Burden Statement

The annual estimated burden for the prior EEO-1 Component 1 Information Collection Review (ICR) for reporting years 2019, 2020, and 2021 was 9,140,226 hours.²⁷ For the proposed package for reporting years 2022, 2023, and 2024, the EEOC is using the same methodology for calculating burden and considering the same factors as the agency did for the prior ICR. However, as detailed below, the EEOC's plan to use a single “Establishment-Level Report” and an auto-populated and auto-generated “Consolidated Report,” as well as the increasing usage by employers of the data file upload function, significantly reduced the annual estimated aggregate filer burden under the proposed package from 9,140,226 to 5,238,467 hours.

²⁷ See Notice of Information Collection 84 FR 48,138 (Sept. 12, 2019) at https://www.govinfo.gov/content/pkg/FR-2019-09-12/pdf/2019-19767.pdf and Notice of Information Collection 85 FR 16,348 (Mar. 23, 2020) at https://www.govinfo.gov/content/pkg/FR-2020-03-23/pdf/2020-06008.pdf.

The methodology used in the 30-day Notice to calculate the burden for the collection of EEO-1 Component 1 data is to separate single-establishment and multi-establishment employers and calculate the burden by considering the following factors: (1) the type of filer (i.e., single-establishment or multi-establishment employer); (2) the combination of report types submitted by the filer (i.e., for single-establishment employers, the “Single-Establishment Employer Report” or, for multi-establishment employers, the “Consolidated Report,” “Headquarters Report,” and “Establishment-Level Report(s)”); ²⁸ and (3) the total number of reports employers will certify to complete their EEO-1 Component 1 submission.

²⁸ A single-establishment employer is required to submit only a “Single-Establishment Employer Report.” A multi-establishment employer is required to submit a summary “Consolidated Report,” a “Headquarters Report,” and a separate “Establishment-Level Report” for each non-headquarters establishment. The “Consolidated Report” is auto-populated and auto-generated for all multi-establishment employers within the EEOC's EEO-1 Component 1 Online Filing System (OFS) with data from their “Headquarters Report” and “Establishment-Level Report(s).”

Reporting time estimates for EEO-1 Component 1 filers are based on the most recently completed EEO-1 Component 1 collection cycle (i.e., the 2021 EEO-1 Component 1 data collection).²⁹ At the end of the 2021 EEO-1 Component 1 data collection, there were a total of 92,025 filers and a total of 1,507,468 reports submitted.³⁰ Based on data trends over the last three EEO-1 Component 1 data collection reporting years (i.e., 2019, 2020, and 2021),³¹ as well as ongoing updates by the EEOC to the EEO-1 Component 1 frame (i.e., filer roster/list or employer roster/list), the EEOC believes the total number of filers submitting at least one report may increase to 110,000. The EEOC further estimates single-establishment employers will continue to represent approximately 40% of EEO-1 Component 1 filers and will submit less than 2% of all reports, while multi-establishment employers will continue to represent approximately 60% of EEO-1 Component 1 filers and will submit more than 98% of all reports.

²⁹ The 2021 EEO-1 Component 1 data collection cycle opened on April 12, 2022 and ended on June 21, 2022.

³⁰ For the 2021 EEO-1 Component 1 data collection, these 1,507,468 reports were made up of the following types of reports: “Type 1” (now referred to as a “Single-Establishment Employer Report”); “Type 2” (now referred to as a “Consolidated Report”); “Type 3” (now referred to as a “Headquarters Report”); and “Type 4” and “Type 8” (now referred to as “Establishment-Level Report(s)”).

³¹ The 2019 EEO-1 Component 1 data collection was delayed until 2021 due to the Coronavirus Disease 2019 (COVID-19) public health emergency. As a result, the 2019 and 2020 EEO-1 Component 1 data collections were collected concurrently in 2021. See https://www.federalregister.gov/documents/2020/05/08/2020-09876/delay-in-opening-of-2019-eeo-1-component-1-and-2020-eeo-3-and-2020-eeo-5-data-collections-due-to-the.

Based upon the anticipated 110,000 filers submitting EEO-1 Component 1 reports, the EEOC estimates these filers will submit a total of 2,235,938 reports annually for reporting years 2022, 2023, and 2024.³² The EEOC estimates 44,257 single-establishment employers will submit a single “Single-Establishment Employer Report,” and it will take these filers 33,193 hours to do so. The EEOC estimates 65,743 multi-establishment employers will submit 2,191,681 reports. By definition, all EEO-1 Component 1 multi-establishment employers must submit, at a minimum, a “Consolidated Report,” a “Headquarters Report,” and at least one “Establishment-Level Report.” The total number of “Establishment-Level Reports” filed by EEO-1 Component 1 multi-establishment employers varies greatly, with the plurality of multi-establishment employers filing one establishment report,³³ and a small number of multi-establishment employers filing many reports. A small number of multi-establishment employers account for a large portion of overall “Establishment-Level Reports” submitted.³⁴

³² This total includes the 65,743 consolidated reports submitted annually by multi-establishment employers that are auto-populated and auto-generated by the EEO-1 Component 1 Online Filing System (OFS). While these reports contribute to the total report count, they have no associated burden.

³³ For the 2021 EEO-1 Component 1 data collection, the modal (i.e., most common) number of reports submitted by multi-establishment employers was three reports: one headquarters report, one establishment report, and one consolidated report. The median number of reports submitted by multi-establishment employers was eight reports: one headquarters report, six establishment reports, and one consolidated report.

³⁴ For example, in the 2021 EEO-1 Component 1 data collection, there were individual multi-establishment employers whose submissions included thousands of reports for their non-headquarters establishments.

Table 1 below outlines the number of reports, the average reporting time by report type, and the aggregate number of hours estimated to submit these reports. The aggregate reporting time for EEO-1 Component 1 filers by report type varies between a low of 33,193 hours for single-establishment employers submitting a “Single-Establishment Employer Report,” and a high of 5,205,274 hours for multi-establishment employers submitting “Consolidated Reports,” “Headquarters Reports,” and “Establishment-Level Reports.” When also accounting for the aggregate reporting time for EEO-1 Component 1 single-establishment employers to complete a “Single-Establishment Employer Report” (33,193 hours), the total aggregate reporting time for all EEO-1 Component 1 filers is 5,238,467 hours.

Table 1—Projected Annual Burden for EEO-1 Component 1 Reporting Years 2022, 2023, 2024, by Report Type and Reporting Time
Type of report | Number of reports | Average reporting time (minutes) | Aggregate reporting time (hours)
Single-Establishment Employer Report ᵃ | 44,257 | 45 | 33,193
Consolidated Report ᵇ | 65,743 | 0 | 0
Headquarters Report ᶜ | 65,743 | 50 | 54,786
Establishment-Level Report ᵈ | 2,060,195 | 150 | 5,150,488
Total | 2,235,938 |  | 5,238,467
ᵃ A “Single-Establishment Employer Report” must be submitted by all single-establishment employers. A single-establishment employer is required to submit only one report. This report must contain demographic data for all the single-establishment employer's employees categorized by job category and sex and race or ethnicity.
ᵇ A “Consolidated Report” is required for all multi-establishment employers. A “Consolidated Report” must contain demographic data for all the multi-establishment employer's employees (i.e., employees at headquarters and all establishments), categorized by job category and sex and race or ethnicity. The “Consolidated Report” is auto-populated and auto-generated within the EEOC's electronic web-based EEO-1 Component 1 Online Filing System (OFS) for all multi-establishment employers with data from their “Headquarters Report” and “Establishment-Level Report(s).” Therefore, there is no associated burden.
ᶜ A “Headquarters Report” must be submitted by all multi-establishment employers. The report must contain demographic data for all the multi-establishment employer's headquarters employees, categorized by job category and sex and race or ethnicity.
ᵈ An “Establishment-Level Report” must be submitted by all multi-establishment employers for each non-headquarters establishment. An “Establishment-Level Report” must contain establishment-level demographic data for all employees at each of the multi-establishment employer's non-headquarters establishments categorized by job category and sex and race or ethnicity. One “Establishment-Level Report” must be submitted for each non-headquarters establishment. For example, if a multi-establishment employer has 10 non-headquarters establishments, the multi-establishment employer must submit 10 “Establishment-Level Reports.” Beginning with the 2022 EEO-1 Component 1 data collection, multi-establishment employers will no longer be required to file a separate “type” of establishment report based on the size of an individual non-headquarters establishment (i.e., establishments with 50 or more employees or establishments with fewer than 50 employees). Rather, a multi-establishment employer will submit an “Establishment-Level Report” to report establishment-level employee demographic data for each of its non-headquarters establishment(s) regardless of size.

An estimate of the total number of respondents and the amount of time estimated for an average respondent to respond: The estimated number of respondents that must file EEO-1 Component 1 data for the next three reporting years (i.e., 2022, 2023, and 2024) is 110,000 filers each year. Each filer is required to respond to the EEO-1 Component 1 once annually. The burden estimate is based on data from prior administrations of the EEO-1 Component 1 data collection. The EEOC estimates the 110,000 filers will submit a total of 2,235,938 reports annually. About 40% of EEO-1 Component 1 filers (i.e., 44,257 single-establishment employers) will submit one report (i.e., a “Single-Establishment Employer Report”) on a single establishment. It is estimated these single-establishment employers will take an average of 45 minutes per reporting year to complete their EEO-1 Component 1 report. About 60% of EEO-1 Component 1 filers (i.e., 65,743 multi-establishment employers) will report data on multiple establishments. For each reporting year, all multi-establishment employers must submit a “Consolidated Report,” a “Headquarters Report,” and an “Establishment-Level Report” for each establishment, resulting in an estimated total of 2,191,681 reports submitted.³⁵ While the actual submission time for each single-establishment employer and multi-establishment employer varies, for purposes of this Notice the EEOC estimates that it will take a single-establishment employer 45 minutes and the modal (i.e., most common) multi-establishment employer 200 minutes (i.e., 3.33 hours) to complete their EEO-1 Component 1 report(s).³⁶

³⁵ This total includes the 65,743 “Consolidated Reports” submitted by multi-establishment employers, which are auto-populated and auto-generated by the EEO-1 Component 1 Online Filing System (OFS). While these reports contribute to the total report count, they have no associated burden.

³⁶ Burden for single-establishment employers is based on a single report. Burden for multi-establishment employers is cumulative and is based on the report type combination. The completion time for the “Consolidated Report” is 0 minutes since this report is auto-populated and auto-generated within the EEOC's electronic web-based EEO-1 Component 1 Online Filing System (OFS) for all multi-establishment employers with data from their “Headquarters Report” and “Establishment-Level Report(s).” The completion of the “Headquarters Report” adds 50 minutes to the burden, and the completion of each “Establishment-Level Report” adds 150 minutes to the burden. Given the modal (i.e., most common) multi-establishment employer submitted one “Consolidated Report,” one “Headquarters Report,” and only one “Establishment-Level Report,” the modal multi-establishment employer will have a total burden of 200 minutes, or 3.33 hours (0 minutes for the “Consolidated Report,” 50 minutes for the “Headquarters Report,” and 150 minutes for the one “Establishment-Level Report”). Please note that the “modal” multi-establishment employer referenced here is based on the number of reports submitted by multi-establishment employers during the EEOC's most recent EEO-1 Component 1 data collection (i.e., 2021), which closed in summer 2022.

An estimate of the total public burden (in hours) associated with the collection: The collection of EEO-1 Component 1 data for reporting years 2022, 2023, and 2024 is estimated to impose 5,238,467 annual burden hours for 2,235,938 EEO-1 Component 1 reports filed each reporting year.

Dated: April 24, 2023.
For the Commission.
Charlotte A. Burrows,
Chair.

[FR Doc. 2023-09216 Filed 5-1-23; 8:45 am]

BILLING CODE P